DEPARTMENT OF ENERGY

Federal Energy Regulatory Commission

[Docket No. CP01-387-000]

Algonquin Gas Transmission Company; Notice of Application

June 22, 2001.

Take notice that on June 15, 2001, Algonquin Gas Transmission Company (Algonquin), P.O. Box 1642, Houston, Texas 77251-1642, filed in Docket No. CP01-387-000 an application pursuant to the provisions of Section 7 of the Natural Gas Act for a certificate of public convenience and necessity to construct and operate facilities and to authorize the leasing of capacity on Algonquin's system all as more fully set forth in the application which is on file with the Commission and open to public inspection. This filing may be viewed on the web at http://www.rimsweb1.ferc.fed.us/rims.?rp2~intro (call 202-208-2222 for assistance).

Specifically, Algonquin proposes to: (1) Retest and upgrade its C-1 and C-1 L pipelines in New Haven County, Connecticut from their current maximum allowable operating pressure (MAOP) of 750 psig to an MAOP of 814 psig; (2) expose, inspect and repair, as necessary, two 25-foot segments of pipe on the C-1 pipeline in New Haven County, Connecticut; (3) construct a new 10,310 horsepower compressor station in Cheshire, Connecticut near the beginning of the C-1 and C-1 L pipelines; and (4) remove two tool launchers from an existing aboveground facility in New Haven, Connecticut and relocated them to the proposed compressor station in Cheshire, Connecticut. Algonquin states that the estimated cost of the facilities is approximately $32.3 million. Algonquin proposes to place the facilities in service on November 1, 2003.

Algonquin also seeks authorization to lease 285,000 Dth per day of capacity to Islander East Pipeline Company, L.L.C. (Islander East) from Cheshire, Connecticut (the intersection of the Algonquin mainline and its C-system) to a proposed interconnection between Algonquin and Islander East near North Haven, Connecticut for a primary term of 20 years. The fixed monthly lease payment under the lease agreement is $334,135. In addition, Islander East will pay a monthly operating and maintenance charge of $32,307. Algonquin states that the monthly lease payment is less than what Islander East would pay if it had contracted for firm service on Algonquin and thus meets Commission standards for lease payments.

Algonquin states that this project, in conjunction with the Islander East proposal in Docket No. CP01-384-000, et al., will allow markets in the Long Island and New York City area as well as future markets in Connecticut to access eastern Canadian offshore gas production. Algonquin also indicates that the lease agreement will eliminate Islander East's need to construct duplicative facilities in Connecticut, reducing the potential environmental impact of the Islander East project. Further, Algonquin asserts that this project will provide its shippers with direct access to the Long Island and New York City markets and enhance the operating efficiency and reliability of its system with additional compression and increased system pressures. Algonquin states that its proposal is consistent with the Commission's statement of policy on certification of new interstate natural gas pipeline facilities.

Any questions regarding the application should be directed to Richard J. Kruse, Senior Vice President, Industry Initiatives, Pricing & Regulatory Affairs, Algonquin Gas Transmission Company, P.O. Box 1642, Houston, Texas 77251-1642 at 713-627-5368 or by facsimile at 713-627-4027.

There are two ways to become involved in the Commission's review of this project. First, any person wishing to obtain legal status by becoming a party to the proceedings for this project should, on or before July 13, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the internet in lieu of paper. See, 18 CFR 385.2001(a)(1)(iii) and the instructions on the Commission's web site at http://www.ferc.gov/documents/makeanelectronicfiling/doorbell.htm.

If the Commission decides to set the application for a formal hearing before an Administrative Law Judge, the Commission will issue another notice describing that process. At the end of the Commission's review process, a final Commission order approving or denying a certificate will be issued.

David P. Boergers,
Secretary.

[FR Doc. 01-16224 Filed 6-27-01; 8:45 am]

BILLING CODE 6717-01-M